DEPARTMENT OF THE INTERIOR

Fish and Wildlife Service

[FWS-R5-R-2008-N198; 50133-1265-XENP-S3]

Eastern Neck National Wildlife Refuge, Kent County, MD

AGENCY: Fish and Wildlife Service, Interior.

ACTION: Notice of availability: draft comprehensive conservation plan and draft environmental assessment; request for comments.

SUMMARY: The U.S. Fish and Wildlife Service (Service) announces the availability of the draft comprehensive conservation plan (CCP) and draft environmental assessment (EA) for Eastern Neck National Wildlife Refuge (NWR), located in Kent County, Maryland, with its office in Rock Hall, Maryland. The draft CCP/EA describes three alternatives, including our Service-preferred alternative B, for managing this refuge for the next 15 years. Also available for public review and comment are the draft compatibility determinations, which are included as appendix B in the draft CCP/EA.

DATES: To ensure our consideration of your written comments, please send them by October 9, 2009. We will also hold a public meeting in Rock Hall, Maryland. We will announce and post details of the public meeting in local news media, via our project mailing list, and on our Regional planning Web site, http://www.fws.gov/northeast/planning/eastern%20neck/ccphome.html.

ADDRESSES: Send your comments or requests for copies of the draft CCP/EA by one of the following methods.

U.S. Mail: Nancy McGarigal, Natural Resource Planner, U.S. Fish and Wildlife Service, 300 Westgate Center Drive, Hadley, MA 01035.

Fax: Attention: Nancy McGarigal, 413-253-8468.

E-mail: northeastplanning@fws.gov. Please put the words “Eastern Neck NWR CCP” in the subject line of your e-mail.

Agency Web site: View or download the draft document on the Web at http://www.fws.gov/northeast/planning/eastern%20neck/ccphome.html.

FOR FURTHER INFORMATION CONTACT: Suzanne Baird, Project Leader, Chesapeake Marshlands National Wildlife Refuge Complex, 2145 Key Wallace Drive, Cambridge, MD 21613; phone 410-228-2692, extension 101; fax 410-228-3261; or e-mail at fw5rw_bwnwr@fws.gov.

SUPPLEMENTARY INFORMATION:

Introduction

This notice continues the CCP process for Eastern Neck NWR, which is one of the four refuges that comprise the Chesapeake Marshlands NWR Complex. The other three are Blackwater, Martin, and Susquehanna NWRs. We prepared the draft CCP in compliance with the National Environmental Policy Act of 1969, as amended (NEPA) (42 U.S.C. 4321 et seq.), and the National Wildlife Refuge System Administration Act of 1966 (Administration Act), as amended by the National Wildlife Refuge System Improvement Act of 1997 (Improvement Act), which requires us to develop a CCP for each national wildlife refuge. We published our original notice of intent to prepare a CCP in the Federal Register on June 11, 2002 (67 FR 40002). Due to changes in budget and staffing priorities, the project was put on hold in 2003. We subsequently announced we were restarting the process by publishing another notice in the Federal Register on January 22, 2007 (72 FR 2709).

Eastern Neck NWR is a 2,285-acre island that lies at the confluence of the Chester River and the Chesapeake Bay in Kent County, Maryland. Established in 1962 to protect migratory birds, the refuge is recognized regionally as a major feeding and resting place for a wide variety of migrating and wintering waterfowl. Its habitats are highly diverse, and include tidal marsh, open water, and woodland. Its managed croplands also contribute to the quality of its habitats by providing a ready source of high-energy food for wintering waterfowl when their reserves are low. The moist soil units and green tree reservoirs on the refuge also are managed to enhance habitats for migratory birds. Thousands of Atlantic population Canada geese and black ducks winter here, as do large rafts of ruddy ducks, canvasbacks, and greater and lesser scaups. Of particular note are the wintering tundra swans that use the adjacent shallow waters. A small number of the federally listed endangered Delmarva fox squirrel (Sciurus niger cinereus) occur on the refuge, as do breeding bald eagles and more than 60 migratory bird species of conservation concern.

Although conserving wildlife and habitat is the refuge's first priority, the public can observe and photograph wildlife, fish, hunt, or participate in environmental education and interpretation programs. To facilitate those activities, we maintain self-guiding trails, fishing and observation platforms, and photography blinds. School groups come throughout the year for our educational and interpretive programs. An annual deer hunt and youth turkey hunt are also very popular activities on the refuge. All programs benefit from the active involvement of the Friends of Eastern Neck and refuge volunteers.

Background

The CCP Process

The Improvement Act requires us to develop a CCP for each national wildlife refuge. The purpose for developing those CCPs is to provide refuge managers with 15-year plans for achieving refuge purposes and the mission of the National Wildlife Refuge System (NWRS), in conformance with sound principles of fish and wildlife management and conservation, legal mandates, and Service policies. In addition to outlining broad management direction on conserving wildlife and their habitats, CCPs identify opportunities for wildlife-dependent recreation available to the public, which includes opportunities for hunting, fishing, observing and photographing wildlife, and participating in environmental education and interpretation programs. We will review and update each CCP at least every 15 years, in accordance with the Improvement Act.

Public Outreach

In conjunction with our first Federal Register notice in June 2002, we distributed a newsletter to more than 600 State agencies, organizations, and individuals on our project mailing list, asking about their interest in the refuge and whether they had issues or concerns they would like us to address. At that time, we also held public scoping meetings. In January 2007, along with the release of the newsletter announcing that we were restarting the planning process, we held a public meeting in Rock Hall, Maryland. The purpose of that meeting was to share updated information on the planning process, review the 2002 scoping results, and solicit new management issues and concerns. Throughout the process, we have conducted additional outreach via participation in community meetings, events, and other public forums, and requested public input on managing the refuge and its programs.

Some of the key issues in the public comments include:

• The need to identify the most effective strategies for enhancing habitats for migrating and wintering waterfowl,

• Determining what other species and habitats should be management priorities,

• Deciding how we can best control invasive plants, and

• How to work best with partners to minimize shoreline erosion and the degradation of shallow water habitats.

We considered all of these comments, and incorporated many of them into the varied alternatives in the draft CCP/EA.

CCP Actions We Are Considering, Including the Service-Preferred Alternative

We developed three management alternatives based on the purposes for establishing the refuge; its vision and goals; and the issues and concerns of the public, State agencies, and the Service that arose during the planning process. The alternatives share some actions in common, such as protecting and restoring the refuge shoreline and tidal marsh habitats, protecting nesting bald eagles and the federally listed Delmarva fox squirrel, controlling invasive plants, encouraging research that benefits our resource decisions, protecting cultural resources, distributing refuge revenue sharing payments to Kent County, supporting the Friends of Eastern Neck, and promoting the refuge volunteer program.

Other actions distinguish the alternatives. The draft CCP/EA describes the alternatives in detail, and relates them to the issues and concerns. Highlights follow.

Alternative A (Current Management)

This alternative is the “No Action” alternative required by NEPA. Alternative A defines our current management activities, and serves as the baseline for comparing the other alternatives. We would continue to focus our habitat management on protecting the refuge shoreline and restoring tidal marsh habitats in partnership with others. We would also manage cropland on 557 acres, moist soil units on 28 acres, and green tree reservoirs on 38 acres. We would continue to protect 708 acres of mature mixed forest and treat invasive plants as our funding and staffing allow. Our biological monitoring and inventory program would continue at its current levels, focusing on surveys of breeding and wintering birds.

Our visitor services programs would not change; we would continue to facilitate opportunities for fishing, hunting, observing and photographing wildlife, and participating in environmental education and interpretation programs. We would maintain, but not expand, the facilities to support those activities. The seasonal closures in some areas would continue to protect nesting or wintering birds. We would continue to station three permanent staff at Eastern Neck NWR, and access to all refuge complex staff would continue to be available as needed.

Alternative B (Emphasis on Tidal Wetlands and Waterfowl; the Service-Preferred Alternative)

This alternative is the one we propose as the best way to manage Eastern Neck NWR over the next 15 years. It includes an array of management actions that, in our professional judgment, works best toward achieving the refuge purposes, our vision and goals, and the goals of other State and regional conservation plans. We also believe it most effectively addresses the key issues raised during the planning process.

The highest priority of the biological program in alternative B would be to protect the refuge shoreline and tidal marsh. We plan to work with partners to create additional breakwaters and restore 108 acres of native tidal marsh. We would consolidate our cropland management program into 372 acres in fewer, larger fields to increase their use by waterfowl. We would also improve migratory habitat for waterfowl, shorebirds, and marsh birds by creating up to four new moist soil units on 21 acres. As in alternative A, we would continue to monitor refuge forests and wetlands for invasive plants, and make treating them a priority. We would expand our biological monitoring and inventory program, and regularly evaluate its results to help us better understand the implications of our management actions and identify ways to improve their effectiveness. We would expand our support of compatible research programs, and would encourage the use of the refuge to demonstrate restoration and best adaptive management practices.

We would enhance opportunities for all six priority public uses, and emphasize two of them—wildlife observation and photography. We would seek new partnerships, such as those with environmental educators, to encourage their use of the refuge as a living laboratory and help us improve our programs. The seasonal closures in some areas would continue to protect nesting or wintering birds. Outreach and Service visibility on the refuge and in the local community would improve. We would station two additional staff at Eastern Neck NWR, but, as in alternative A, access to all refuge complex staff would continue to be available as needed.

Alternative C (Emphasis on Tidal Wetlands and Forest Habitat)

As in alternatives A and B, the highest priority in alternative C is to protect and restore the refuge shoreline and tidal marsh. However, its emphasis on managing forest habitat in the refuge uplands to benefit forest-dependent species distinguishes it from alternatives A and B. We would eliminate the cropland program, and would not construct new moist soil units. Instead, we would allow those lands to revert through natural succession to forest, and intervene with treatments when necessary to ensure that a native, healthy, diverse forest results.

We would not begin any other significant new inventorying or monitoring, except established protocols when required by mandates on Federal trust species or when recommended by the Regional biologist. We would permit compatible research programs requested by our partners on refuge lands, but would limit our involvement. As in alternative B, we would encourage the use of the refuge to demonstrate restoration and best adaptive management practices.

Under alternative C, we would offer more visitor services programs and build more infrastructure than in alternatives A or B. We would open for public access the areas previously closed to protect wintering waterfowl. The suitability of those areas for waterfowl would diminish greatly as they revert to forest. We would improve our programs for environmental education, interpretation, and wildlife observation and photography. We would hold teacher workshops, become actively involved in developing local school programs using the refuge, and promote senior education programs. We would consider a new trail and boat launch at the south end of the island, and would expand the turkey hunt by opening it to adult hunters for a limited time. As in alternative B, we would improve Service outreach and visibility, and station two new staff at the refuge.

Public Meetings

We will give the public opportunities to provide input at one public meeting in Rock Hall, Maryland. You can obtain the schedule from the project leader or natural resource planner (see addresses or FOr Further Information CONTACT, above). You may also submit comments at any time during the planning process, by any means shown in the ADDRESSES section.

Public Availability of Comments

Before including your address, phone number, e-mail address, or other personal identifying information in your comments, you should be aware that your entire comment—including your personal identifying information—may be made publicly available at any time. While you can ask us in your comment to withhold your personal identifying information from public review, we cannot guarantee that we will be able to do so.

Dated: August 7, 2009.
Salvatore M. Amato,
Acting Regional Director, U.S. Fish and Wildlife Service, Hadley, MA 01035.

[FR Doc. E9-21737 Filed 9-8-09; 8:45 am]

BILLING CODE 4310-55-P